DEPARTMENT OF TRANSPORTATION

Surface Transportation Board

Notice and Request for Comments

AGENCY: Surface Transportation Board.

ACTION: 60-day notice of intent to seek extension of approval.

SUMMARY: As part of its continuing effort to reduce paperwork burdens, and as required by the Paperwork Reduction Act of 1995, 44 U.S.C. 3501-3519 (PRA), the Surface Transportation Board (Board) gives notice of its intent to request from the Office of Management and Budget (OMB) approval without change of the two existing collections described below concerning rail fuel surcharges and rail “waybills.”

Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and/or summarized in the Board's request for OMB approval.

DATES: Written comments are due on August 30, 2010.

ADDRESSES: Direct all comments to Marilyn Levitt, Surface Transportation Board, Suite 1260, 395 E Street, SW., Washington, DC 20423-0001, or to levittm@stb.dot.gov. Comments should be identified as “Paperwork Reduction Act Comments,” and should refer to the title and control number of the specific collection(s) commented upon.

FOR FURTHER INFORMATION CONTACT: For additional information or copies of the Rail Fuel Surcharge Report form, contact Marcin Skomial at (202) 245-0344 or skomialm@stb.dot.gov, or Paul Aguiar at (202) 245-0323 or paul.aguiar@stb.dot.gov. For further information regarding the Waybill Sample collection, contact Scott Decker at (202) 245-0330 or deckers@stb.dot.gov, or Paul Aguiar at (202) 245-0323 or paul.aguiar@ stb.dot.gov. [Federal Information Relay Service (FIRS) for the hearing impaired: (800) 877-8339.]

Subjects: In this notice the Board is requesting comments on the following information collections:

Collection Number 1

Title: Report of Fuel Cost, Consumption, and Surcharge Revenue.

OMB Control Number: 2140-0014.

STB Form Number: None.

Type of Review: Extension without change.

Respondents: Class I railroads (railroads with operating revenues exceeding $250 million in 1991 dollars)

Number of Respondents: 7.

Estimated Time per Response: 1 hour.

Frequency: Monthly.

Total Burden Hours (annually including all respondents): 84 hours.

Total “Non-hour Burden” Cost: None identified.

Needs and Uses: Under 49 U.S.C. 10702, the Surface Transportation Board has the authority to address the reasonableness of a rail carrier's practices. The proposed information collection is intended to permit the Board to monitor the current fuel surcharge practices of the Class I carriers. Failure to collect this information would impede the Board's ability to fulfill its responsibilities under 49 U.S.C. 10702. The Board has authority to collect information about rail costs and revenues under 49 U.S.C. 11144 and 11145.

Retention Period: Information in this report will be maintained on the Board's Web site for a minimum of one year and will be otherwise maintained by the Board for a minimum of two years.

Collection Number 2

Title: Waybill Sample.

OMB Control Number: 2140-0015.

STB Form Number: None.

Type of Review: Extension without change.

Respondents: Any regulated railroad that terminated at least 4,500 carloads on its line in any of the three preceding years or that terminated at least 5% of the total revenue carloads that terminated in a particular state.

Number of Respondents: 52.

Estimated Time per Response: 75 minutes.

Frequency: Six (6) respondents report monthly; 46 report quarterly.

Total Burden Hours (annually including all respondents): 320 hours.

Total “Non-hour Burden” Cost: No “non-hour cost” burdens associated with this collection have been identified.

Needs and Uses: The Surface Transportation Board is, by statute, responsible for the economic regulation of common carrier rail transportation in the United States. Under 49 CFR Part 1244, a railroad is required to file carload waybill sample information (Waybill Sample) for all line-haul revenue waybills terminating on its lines if, in any of the three preceding years, it terminated 4,500 or more carloads, or it terminated at least 5% of the total revenue carloads that terminate in a particular State. The information in the Waybill Sample is used by the Board, other Federal and State agencies, and industry stakeholders to monitor traffic flows and rate trends in the industry, and to develop testimony in Board proceedings. The Board has authority to collect this information under 49 U.S.C. 11144 and 11145.

SUPPLEMENTARY INFORMATION: Under the PRA, a Federal agency conducting or sponsoring a collection of information must display a currently valid OMB control number. A collection of information, which is defined in 44 U.S.C. 3502(3) and (5) CFR 1320.3(c), includes agency requirements that persons submit reports, keep records, or provide information to the agency, third parties, or the public. Under section 3506(c)(2)(A) of the PRA, Federal agencies are required, prior to submitting a collection to OMB for approval, to provide a 60-day notice and comment period through publication in the Federal Register concerning each proposed collection of information, including each proposed extension of an existing collection of information.

Dated: June 29, 2010.
Jeffrey Herzig,
Clearance Clerk.

[FR Doc. 2010-15677 Filed 6-28-10; 8:45 am]

BILLING CODE 4915-01-P